DEPARTMENT OF ENERGY

Federal Energy Regulatory Commission

[Project No. 1927-140]

PacifiCorp; Notice of Reasonable Period of Time for Water Quality Certification Application

On March 31, 2022, PacifiCorp submitted to the Federal Energy Regulatory Commission (Commission) evidence of its application for a Clean Water Act section 401(a)(1) water quality certification filed with Oregon Department of Environmental Quality, in conjunction with the above captioned project. Pursuant to section 401 of the Clean Water Act ¹ and section 4.34(b)(5) of the Commission's regulations,² a state certifying agency is deemed to have waived its certifying authority if it fails or refuses to act on a certification request within a reasonable period of time, which is one year after the date the certification request was received. Accordingly, we hereby notify the Oregon Department of Environmental Quality of the following:

¹ 33 U.S.C. 1341(a)(1).

² 18 CFR 4.34(b)(5).

Date that Oregon Department of Environmental Quality Received the Certification Request: February 25, 2022.

If Oregon Department of Environmental Quality fails or refuses to act on the water quality certification request on or before February 25, 2023, then the agency certifying authority is deemed waived pursuant to section 401(a)(1) of the Clean Water Act, 33 U.S.C. 1341(a)(1).

Dated: April 1, 2022.
Kimberly D. Bose,
Secretary.

[FR Doc. 2022-07405 Filed 4-6-22; 8:45 am]

BILLING CODE 6717-01-P